POSTAL SERVICE

39 CFR Part 111

Parcel Return Service

AGENCY: Postal Service.

ACTION: Final rule.

SUMMARY: This final rule adopts new mailing standards to make Parcel Return Service a permanent classification. Parcel Return Service replaces the former Parcel Return Services experiment and is now open to all postal customers who meet the participation requirements.

DATES: Effective Date: April 2, 2006.

FOR FURTHER INFORMATION CONTACT: Michael F. Lee, 202-268-7263.

SUPPLEMENTARY INFORMATION:

Background

The Postal Service published a final rule in the Federal Register on September 18, 2003 (68 FR 54664), introducing a new service called Parcel Return Services (PRS). This experimental service allowed authorized permit holders or their agents to pick up parcels returned by consumers at return bulk mail centers and return delivery units across the country.

We filed a Request for Recommended Decision with the Postal Rate Commission on October 17, 2005, to make the experimental classification permanent. On March 3, 2006, the Postal Rate Commission issued its Recommended Decision that PRS become a permanent service offering (Docket No. MC2006-1). The Governors of the Postal Service acted on the Recommended Decision in Resolution 06-3 on March 22, 2006, establishing PRS as a permanent mail classification. The Governors set April 2, 2006, as the effective date of the change.

Summary of Changes

We are changing the name of PRS from the plural “Parcel Return Services” to the singular “Parcel Return Service.”

There are two major changes in the permanent PRS classification as compared with the experimental service offering. We are not offering Bound Printed Matter (BPM) Return Service as part of the permanent set of rates for PRS, because there was no reported BPM volume during the experiment. Consequently, only Parcel Select Return Service remains. At the request of PRS mailers, we will now offer Certificate of Mailing as an extra service for PRS parcels. A mailer returning a parcel using PRS can bring it to a local post office and purchase a Certificate of Mailing as proof that the parcel was mailed.

We chose to retain the name “Parcel Select Return Service” for labeling, rating, and data collection purposes. This continuity will allow mailers to use their existing label stock; no label redesign is necessary. We will use a similar naming convention for any future service offerings under the PRS umbrella.

We provide the new standards, and how they are applied for Parcel Return Service, below.

We adopt the following amendments to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Mailing Standards of the United States Postal Service, Domestic Mail Manual (DMM), as follows:

500 Additional Services

* * * * *

507 Mailer Services

* * * * *

[Remove mailing standards for the Parcel Return Services experiment in 709.5.0. Add new 507.11.0 to make Parcel Return Service a permanent classification as follows:]

11.0 PARCEL RETURN SERVICE

11.1 Basic Information

11.1.1 Description

The Parcel Return Service (PRS) standards in 11.0 apply to parcels that are retrieved in bulk by authorized permit holders or their agents. The permit holder guarantees payment of postage and retrieval of all PRS parcels mailed with a PRS label. When a merchant or other party provides an approved PRS label to its customers or others, the merchant or other party designates the permit holder identified on the label as their agent for receipt of mail bearing that label, and authorizes the USPS to provide that mail to the permit holder or its designee. The permit holder has the option of retrieving parcels at a designated return delivery unit (a postal facility designated as a pickup location for PRS parcels, also known for PRS purposes as an “RDU”) or at the return bulk mail center (also known for PRS purposes as an “RBMC”) that serves the post office where returned parcels are deposited by customers. Payment for parcels returned under PRS is deducted from a separate advance deposit (postage-due) account funded through the Centralized Account Processing System (CAPS).

11.1.2 Conditions for Mailing

Parcels may be mailed as PRS when all of the following conditions apply:

a. Parcels contain eligible matter as described in 153.3 and 153.4.

b. Parcels bear a PRS label that meets the standards in 11.4.

c. Parcels show the permit number, and the permit holder has paid the annual PRS permit fee and the annual PRS accounting fee.

11.1.3 Services

Pieces using PRS may not bear an ancillary service endorsement (see 102.4.0 and 507.1.5). Only a Certificate of Mailing, when the fee is paid by the mailer returning the parcel, is available as an extra service.

11.1.4 Customer Mailing Options

Returned parcels may be deposited as follows:

a. At any post office, station, or branch.

b. In any collection box (except an Express Mail box).

c. With any letter carrier.

d. As part of a collection run for other mail (special arrangements may be required).

e. At any place designated by the postmaster for the receipt of mail.

11.1.5 Application

Companies who wish to participate in PRS must send a request on company letterhead to the manager, Business Mailer Support (see 608.8.0 for address). The request must contain the following information:

a. Company name and address.

b. An individual's contact name, telephone number, fax number, and e-mail address.

c. The rate category or categories to be used, and the proposed retrieval locations (delivery units and bulk mail centers).

d. A description of the electronic returns manifesting system to be used to document returns listed by location and rate eligibility.

11.1.6 Approval

The manager, Business Mailer Support reviews each request and proceeds as follows:

a. If the applicant meets the criteria, the manager, Business Mailer Support approves the letter of request. The USPS will require the customer to enter into a Service Agreement, may require additional documentation, and may conduct periodic review and inspection of each participant's PRS processing and accounting operations.

b. If the application does not meet the criteria, the manager, Business Mailer Support denies the request and sends a written notice to the applicant with the reason for denial.

11.1.7 Cancellation

USPS may cancel a PRS permit for any of the following reasons:

a. The permit holder fails to pay the required postage and fees for returned parcels.

b. The permit holder does not maintain adequate available funds to cover postage and fees for returned parcels.

c. The permit holder does not fulfill the terms and conditions of the PRS permit authorization.

d. The return labels do not conform to the specifications in 11.4.

11.1.8 Reapplying After Cancellation

To receive a new PRS permit after cancellation under 11.1.7 the mailer must:

a. Submit a letter to the manager, Business Mailer Support requesting a permit and a new agreement.

b. Pay a new permit fee.

c. Provide evidence showing that the reasons for cancellation no longer exist.

d. Maintain adequate available funds to cover the expected number of returns.

11.1.9 Pickup Schedule

Permit holders or their agents must set up a recurring or standing appointment to retrieve PRS parcels. If the permit holder (or their agent) already has existing appointments to deliver Parcel Select parcels to a destination bulk mail center or to a destination delivery unit, those same appointments can be used for retrieving PRS parcels. Permit holders or their agents must retrieve parcels on a regular schedule as follows:

a. From RBMCs, at a minimum of every 48 hours, excluding Sundays and USPS holidays.

b. From RDUs, according to the Service Agreement.

11.1.10 Parcels Endorsed Hold for Pickup

PRS participants must pay the appropriate Parcel Select RDU rate under 11.3 for any unclaimed, refused, undeliverable as addressed, or recalled parcels that are endorsed “Hold For Pickup” (under 455.4.6 and 508.1.3) and that bear the marking “PARCEL RETURN SERVICE REQUESTED” or “PRS REQUESTED” followed by a unique 569 prefix ZIP Code.

11.2 Postage and Fees

11.2.1 Postage

There are two PRS rate categories:

a. Parcel Select RDU. Parcels returned as Parcel Post to, and retrieved in bulk from, a designated delivery unit.

b. Parcel Select RBMC. Parcels returned as Parcel Post to, and retrieved in bulk from, a designated BMC.

11.2.2 Permit Fee

The participant must pay a $160.00 permit fee annually at the post office where the PRS permit is held.

11.2.3 Advance Deposit Account and Annual Accounting Fee

The participant must pay postage through an advance deposit account and must pay an annual accounting fee of $500.00.

11.3 Rates

11.3.1 Parcel Return Service—Return Delivery Unit

Regardless of weight (up to the maximum weight of 70 pounds), any parcel that measures more than 108 inches (but not more than 130 inches) in combined length and girth must pay the oversized rate.

Length plus girth | Rate
Not over 108 inches | $2.11
Oversized (Over 108 inches up to 130 inches) | 7.92

11.3.2 Parcel Return Service—Return BMC Machinable

Parcels that weigh less than 15 pounds but measure more than 84 inches in combined length and girth are charged the applicable rate for a 15-pound parcel.

See Exhibit 11.3.2, Parcel Return Service—Return BMC Machinable.

Exhibit 11.3.2.—Parcel Return Service—Return BMC Machinable
Weight not over (pounds) | Zones 1 & 2 | Zone 3 | Zone 4 | Zone 5
1 | $2.21 | $2.25 | $2.31 | $2.40
2 | 2.81 | 2.85 | 2.92 | 3.04
3 | 3.39 | 3.43 | 3.52 | 3.65
4 | 3.60 | 3.96 | 4.07 | 4.22
5 | 3.78 | 4.38 | 4.52 | 4.73
6 | 3.95 | 4.76 | 4.90 | 5.21
7 | 4.11 | 5.09 | 5.25 | 5.64
8 | 4.71 | 5.40 | 5.57 | 6.05
9 | 4.85 | 5.65 | 5.89 | 6.42
10 | 5.03 | 5.98 | 6.20 | 6.77
11 | 5.16 | 6.20 | 6.47 | 7.08
12 | 5.32 | 6.41 | 6.75 | 7.39
13 | 5.46 | 6.58 | 7.00 | 7.66
14 | 5.59 | 6.70 | 7.26 | 7.93
15 | 5.70 | 6.88 | 7.48 | 8.18
16 | 5.82 | 7.06 | 7.69 | 8.41
17 | 5.96 | 7.23 | 7.93 | 8.63
18 | 6.05 | 7.39 | 8.13 | 8.83
19 | 6.18 | 7.55 | 8.32 | 9.03
20 | 6.28 | 7.69 | 8.48 | 9.21
21 | 6.38 | 7.84 | 8.64 | 9.39
22 | 6.49 | 7.97 | 8.79 | 9.55
23 | 6.58 | 8.14 | 8.94 | 9.71
24 | 6.67 | 8.26 | 9.06 | 9.87
25 | 6.76 | 8.39 | 9.19 | 10.00
26 | 6.86 | 8.51 | 9.33 | 10.14
27 | 6.95 | 8.64 | 9.44 | 10.27
28 | 7.02 | 8.77 | 9.54 | 10.39
29 | 7.11 | 8.90 | 9.65 | 10.51
30 | 7.20 | 9.00 | 9.76 | 10.61
31 | 7.28 | 9.09 | 9.85 | 10.73
32 | 7.38 | 9.21 | 9.96 | 10.82
33 | 7.44 | 9.32 | 10.04 | 10.93
34 | 7.53 | 9.40 | 10.13 | 11.01
35 | 7.59 | 9.52 | 10.21 | 11.11

11.3.3 Parcel Return Service—Return BMC Nonmachinable

Parcels that weigh less than 15 pounds but measure more than 84 inches in combined length and girth are charged the applicable rate for a 15-pound parcel. Regardless of weight, any parcel that measures more than 108 inches (but not more than 130 inches) in combined length and girth must pay the oversized rate.

See Exhibit 11.3.3, Parcel Return Service—Return BMC Nonmachinable.

Exhibit 11.3.3.—Parcel Return Service—Return BMC Nonmachinable
Weight not over (pounds) | Zones 1 & 2 | Zone 3 | Zone 4 | Zone 5
1 | $3.63 | $3.67 | $3.73 | $3.82
2 | 4.23 | 4.27 | 4.34 | 4.46
3 | 4.81 | 4.85 | 4.94 | 5.07
4 | 5.02 | 5.38 | 5.49 | 5.64
5 | 5.20 | 5.80 | 5.94 | 6.15
6 | 5.37 | 6.18 | 6.32 | 6.63
7 | 5.53 | 6.51 | 6.67 | 7.06
8 | 6.13 | 6.82 | 6.99 | 7.47
9 | 6.27 | 7.07 | 7.31 | 7.84
10 | 6.45 | 7.40 | 7.62 | 8.19
11 | 6.58 | 7.62 | 7.89 | 8.50
12 | 6.74 | 7.83 | 8.17 | 8.81
13 | 6.88 | 8.00 | 8.42 | 9.08
14 | 7.01 | 8.12 | 8.68 | 9.35
15 | 7.12 | 8.30 | 8.90 | 9.60
16 | 7.24 | 8.48 | 9.11 | 9.83
17 | 7.38 | 8.65 | 9.35 | 10.05
18 | 7.47 | 8.81 | 9.55 | 10.25
19 | 7.60 | 8.97 | 9.74 | 10.45
20 | 7.70 | 9.11 | 9.90 | 10.63
21 | 7.80 | 9.26 | 10.06 | 10.81
22 | 7.91 | 9.39 | 10.21 | 10.97
23 | 8.00 | 9.56 | 10.36 | 11.13
24 | 8.09 | 9.68 | 10.48 | 11.29
25 | 8.18 | 9.81 | 10.61 | 11.42
26 | 8.28 | 9.93 | 10.75 | 11.56
27 | 8.37 | 10.06 | 10.86 | 11.69
28 | 8.44 | 10.19 | 10.96 | 11.81
29 | 8.53 | 10.32 | 11.07 | 11.93
30 | 8.62 | 10.42 | 11.18 | 12.03
31 | 8.70 | 10.51 | 11.27 | 12.15
32 | 8.80 | 10.63 | 11.38 | 12.24
33 | 8.86 | 10.74 | 11.46 | 12.35
34 | 8.95 | 10.82 | 11.55 | 12.43
35 | 9.01 | 10.94 | 11.63 | 12.53
36 | 9.11 | 11.05 | 11.74 | 12.65
37 | 9.19 | 11.13 | 11.80 | 12.71
38 | 9.23 | 11.20 | 11.85 | 12.76
39 | 9.29 | 11.29 | 11.90 | 12.81
40 | 9.33 | 11.34 | 11.94 | 12.87
41 | 9.40 | 11.43 | 11.98 | 12.92
42 | 9.43 | 11.49 | 12.03 | 12.96
43 | 9.47 | 11.55 | 12.08 | 12.99
44 | 9.53 | 11.61 | 12.12 | 13.02
45 | 9.56 | 11.66 | 12.27 | 13.06
46 | 9.63 | 11.74 | 12.30 | 13.09
47 | 9.68 | 11.78 | 12.33 | 13.12
48 | 9.71 | 11.85 | 12.35 | 13.15
49 | 9.77 | 11.91 | 12.38 | 13.18
50 | 9.78 | 11.96 | 12.40 | 13.21
51 | 9.85 | 12.00 | 12.43 | 13.25
52 | 9.89 | 12.09 | 12.46 | 13.28
53 | 9.90 | 12.12 | 12.47 | 13.31
54 | 9.95 | 12.14 | 12.50 | 13.34
55 | 9.99 | 12.16 | 12.53 | 13.37
56 | 10.03 | 12.18 | 12.55 | 13.40
57 | 10.08 | 12.18 | 12.55 | 13.44
58 | 10.12 | 12.20 | 12.57 | 13.47
59 | 10.15 | 12.21 | 12.59 | 13.50
60 | 10.20 | 12.22 | 12.59 | 13.53
61 | 10.24 | 12.23 | 12.61 | 13.56
62 | 10.27 | 12.24 | 12.66 | 13.59
63 | 10.31 | 12.24 | 12.71 | 13.63
64 | 10.35 | 12.24 | 12.74 | 13.66
65 | 10.38 | 12.27 | 12.78 | 13.69
66 | 10.43 | 12.27 | 12.83 | 13.72
67 | 10.47 | 12.28 | 12.89 | 13.75
68 | 10.47 | 12.28 | 12.91 | 13.78
69 | 10.53 | 12.28 | 12.96 | 13.82
70 | 10.56 | 12.28 | 13.00 | 13.85
Oversized | 27.39 | 27.73 | 28.46 | 29.56

11.4 Label Formats

11.4.1 Label Preparation

PRS labels must be certified by the USPS for use prior to distribution as defined in the Service Agreement. In addition, permit holders must obtain USPS certification for barcode symbologies. Any photographic, mechanical, or electronic process or any combination of these processes may be used to produce PRS labels. The background of the label may be any light color that allows the address, barcodes, and other required information to be easily distinguished. If labels are electronically transmitted to customers for their local printing, the permit holder must advise customers of these printing requirements as part of the instructions in 11.4.3.

11.4.2 Labeling Methods

If all applicable contents and formats are approved (including instructions to the user), permit holders or their agents may distribute a PRS label by any of the following methods:

a. As an enclosure with merchandise when initially shipped as part of the original invoice accompanying the merchandise, or as a separate label preprinted by the permit holder. If the reverse side of the label bears an adhesive, it must be strong enough to bond the label securely to the mailpiece.

b. As an electronic file created by the permit holder for local printing by the customer.

11.4.3 Instructions

Regardless of label distribution method, permit holders or their agents must always provide written instructions to the user of the PRS label that, at a minimum, direct the user to do the following:

a. “If your name and address are not already printed in the return address area, please print them neatly in that area or attach a return address label there.”

b. “Attach the label provided by the merchant squarely onto the largest side of the mailpiece, unless you need to use another side to make the parcel more stable. Place the label at least 1 inch from the edge of the parcel, so that it does not fold over to another side. If you are using tape to attach the new label, do not put tape over any barcodes on the label, even if the tape is clear.”

c. “If you are reusing the original container to return the merchandise, use the label to cover your original delivery address, barcodes, and any other postal information on the container. If it is not possible to cover all that information with the label, remove the old labels, mark them out completely with a permanent marker, or cover them completely with blank labels or paper that cannot be seen through. If that cannot be done, or if the original container is no longer sound, please use a new box to return the merchandise and attach the return label to the new box.”

d. “Once repackaged and labeled, mail the parcel at a post office, deposit it in a collection box, or leave it with your letter carrier.”

11.4.4 Label Format Elements

There is no minimum size for PRS labels; however, the label must be big enough to accommodate all of the label elements and standards in this section. All PRS label elements must be legible. Except where a specific type size is required, elements must be large enough to be legible from a normal reading distance and be separate from other elements on the label. See the PRS label format examples in 11.4.5a and 11.4.5b. The following elements are required:

a. Postage guarantee. The imprint “No Postage Necessary If Mailed in the United States” must appear in the upper right corner.

b. Horizontal bars. A minimum of three horizontal bars must appear directly below the imprint in the upper right corner. The bars must be uniform in length, at least 1 inch long, 1/16 inch thick, and evenly spaced.

c. Parcel Return Service legend. The legend must be placed directly above the address and must include:

1. Line 1: In capital letters at least 3/16″ high, “PARCEL SELECT RETURN SERVICE” (or “PARCEL SELECT RTN SVC”).

2. Line 2: In all capital letters, the permit holder's name, left justified, followed by “PERMIT NO.”, followed by the actual permit number.

d. Customer's return address. The return address of the customer using the label to mail the parcel back to the permit holder must appear in the upper left corner. If it is not preprinted by the permit holder or merchant, space must be provided for the customer to enter the return address.

e. Address for Parcel Return Service labels. The address must contain the unique PRS ZIP Code (569 prefix) assigned by the USPS to the particular customer or agent. The address must consist of two or three lines in all capital letters, as specified below. The ZIP Code must be printed in at least 12-point type on a line directly below the Parcel Return Service line.

1. Line 1: PRS AGENT'S OR MERCHANT'S NAME.

2. Line 2: “PARCEL RETURN SERVICE” (or “PARCEL RETURN SVC”).

3. Line 3: The unique PRS 569## ZIP Code assigned by the USPS in the service agreement. The unique ZIP Code may alternatively be located as part of the second line of the address.

f. Parcel Return Service barcode. A PRS barcode must be printed directly on the label. The barcode may appear in any location on the label except the upper left, upper right, and lower right corners. The barcode must meet the standards for barcodes in Publication 91, Confirmation Services Technical Guide, with the following exceptions:

1. The barcode must be produced using the UCC/EAN Code 128 barcode symbology.

2. The service type code (STC) contained in the barcode on PRS labels must contain the value “58.”

3. Text above the barcode must read “USPS PARCEL RETURN SERVICE” (or “USPS PARCEL RTN SVC”). If the barcode is a single concatenated barcode with the postal routing code described in 11.4.4g, the text above the barcode must read “BMC ZIP—USPS PARCEL RETURN SERVICE” (or “BMC ZIP—USPS PARCEL RTN SVC”). In the text below the barcode, the leading application identifier (“420”), ZIP Code information, and subsequent numbers must be parsed as shown in 11.4.5b.

4. The clear zone between the barcode, the human-readable text, and the horizontal bar above and below the barcode must be at least 1/16 inch.

g. Postal routing barcode. If a single concatenated barcode is not used for the PRS barcode, a postal routing barcode also must be printed directly on the label. The barcode may appear in any location on the label, except the upper left, upper right, and lower right corners. Postal routing barcodes must meet the standards in 708.5.0, except that the text below the barcode must read “BMC ZIP-,” followed by the unique PRS ZIP Code assigned by USPS in the service agreement.

h. Mailer identification (ID). The permit holder assigns a mailer ID to each individual client (merchant). An individual mailer ID must appear in the lower right corner as follows:

1. The mailer ID must consist of a single, uppercase alpha character followed by a two-, three-, or four-digit number, with no spaces or dashes. For example: X0123.

2. The mailer ID must be at least 3/16 inch high and be surrounded by a box, with a clearance of at least 3/16 inch between the mailer ID characters and the edges of the box.

3. The mailer ID may be reverse-printed.

i. Additional information. Additional information (e.g., company logo, return authorization number, inventory barcode) is permitted on the PRS label if it does not interfere with any required format elements. Inventory barcodes must not resemble the barcodes described in 708.5.0, Barcoding Standards for Parcels.

11.4.5 PRS Label Format Examples

The following are PRS label format examples. Note: The ZIP Code 56999 appears in each example for demonstration purposes only.

a. Parcel Select Return Service label using a separate PRS barcode and postal routing barcode.

b. Parcel Select Return Service label using a concatenated barcode.

* * * * *

700 Special Standards

* * * * *

709 Experimental Classifications and Rates

* * * * *

[Delete 709.5.0, Parcel Return Services, and renumber sections 709.6.0 through 709.8.0 accordingly.]

* * * * *

Neva R. Watson,
Attorney, Legislative.

[FR Doc. 06-3117 Filed 3-29-06; 8:45 am]

BILLING CODE 7710-12-P